ENVIRONMENTAL PROTECTION AGENCY

[FRL-10021-42-Region 9]

Delegations of the Prevention of Significant Deterioration Air Permitting Program to the Nevada Division of Environmental Protection and the Washoe County Health District

AGENCY: Environmental Protection Agency (EPA).

ACTION: Notice of delegations of authority.

SUMMARY: This notice announces that the Environmental Protection Agency (EPA), Region 9, has revised its delegation agreements with the Nevada Division of Environmental Protection (NDEP) and the Washoe County Health District (WCHD) for implementation of the Federal Clean Air Act Prevention of Significant Deterioration (PSD) permitting program. The revised and updated delegation agreements authorize the NDEP and the WCHD to continue to conduct PSD review for proposed new and modified major stationary sources, to issue initial federal PSD permits, and to revise existing federal PSD permits, subject to the terms and conditions of the applicable delegation agreement.

DATES: The revised delegation agreement with the NDEP became effective on January 21, 2020, and the revised delegation agreement with the WCHD became effective on March 22, 2021. Pursuant to section 307(b)(1) of the Clean Air Act, 42 U.S.C. 7607(b)(1), judicial review of these final agency actions, to the extent it is available, may be sought by filing a petition for review in the United States Court of Appeals for the Ninth Circuit within 60 days of April 16, 2021.

ADDRESSES: The revised delegation agreements are available on Region 9's website at https://www.epa.gov/caa-permitting/air-permit-delegation-and-psd-sip-approval-status-epas-pacific-southwest-region-9. For additional information, please contact the person identified in the FOR FURTHER INFORMATION CONTACT section.

FOR FURTHER INFORMATION CONTACT: Laura Yannayon, EPA Region 9, 75 Hawthorne Street (AIR-3-1), San Francisco, California 94105. By phone at (415) 972-3534, or by email at yannayon.laura@epa.gov.

SUPPLEMENTARY INFORMATION: Pursuant to 40 CFR 52.21(u), on April 23, 2014 and March 13, 2008, EPA Region 9 signed PSD delegation agreements with the NDEP and the WCHD, respectively. The delegation agreements authorized the NDEP and the WCHD to implement the PSD program under sections 160-169 of the Clean Air Act (CAA) and 40 CFR 52.21, including conducting PSD review and the issuance and revision of PSD permits.

On January 21, 2020 and March 22, 2021, EPA Region 9 signed the revised and updated delegation agreements with the NDEP and the WCHD, respectively. Both agreements set forth the terms and conditions according to which the agencies will implement the PSD regulations at 40 CFR 52.21. Under the PSD program, major stationary sources of air pollutants must apply for and receive a permit prior to construction of new facilities or certain modifications to existing facilities.

While the NDEP and the WCHD have been delegated the authority to implement and enforce the PSD program, nothing in the delegation agreements prohibits the EPA from enforcing the PSD provisions of the CAA, the PSD regulations, or the conditions of any PSD permit issued by the NDEP or the WCHD.

Dated: April 12, 2021.
Elizabeth J. Adams,
Director, Air and Radiation Division, EPA Region IX.

[FR Doc. 2021-07855 Filed 4-15-21; 8:45 am]

BILLING CODE 6560-50-P